DEPARTMENT OF LABOR

Employment and Training Administration

[TA-W-59,178]

Zohar Waterworks, LLC, d/b/a Tri Palm International, Columbus, OH; Notice of Termination of Investigation

Pursuant to section 221 of the Trade Act of 1974, an investigation was initiated on April 10, 2006 in response to a worker petition filed by a company official on behalf of workers at Zohar Waterworks, LLC, d/b/a Tri Palm International, Columbus, Ohio.

The petitioning group of workers is covered by an active certification, (TA-W-59,172), which expires on May 4, 2008. Consequently, further investigation in this case would serve no purpose, and the investigation has been terminated.

Signed at Washington, DC this 11th day of May, 2006.
Richard Church,
Certifying Officer, Division of Trade Adjustment Assistance.

[FR Doc. E6-7940 Filed 5-23-06; 8:45 am]

BILLING CODE 4510-30-P